DEPARTMENT OF TRANSPORTATION

Federal Aviation Administration

14 CFR Part 39

[Docket No. FAA-2018-0014; Product Identifier 2017-CE-044-AD; Amendment 39-19253; AD 2018-07-22]

RIN 2120-AA64

Airworthiness Directives; DG Flugzeugbau GmbH Gliders

AGENCY: Federal Aviation Administration (FAA), Department of Transportation (DOT).

ACTION: Final rule.

SUMMARY: We are superseding Airworthiness Directive (AD) 2017-08-09 for DG Flugzeugbau GmbH Model DG-500MB gliders that are equipped with a Solo 2625 02 engine modified with a fuel injection system following the instructions of Solo Kleinmotoren GmbH Technische Mitteilung Nr. 4600-3 and identified as Solo 2625 02i. This AD results from mandatory continuing airworthiness information (MCAI) originated by an aviation authority of another country to identify and correct an unsafe condition on an aviation product. The MCAI describes the unsafe condition as the potential of an in-flight shut-down and engine fire due to failure of the connecting stud for the two fuel injector mounts of the engine redundancy system on gliders equipped with a Solo 2625 02i engine. We are issuing this AD to add a model to the applicability and require actions to address the unsafe condition on these products.

DATES: This AD is effective May 25, 2018.

The Director of the Federal Register approved the incorporation by reference of a certain publication listed in this AD as of May 26, 2017 (82 FR 18694, April 21, 2017).

ADDRESSES: You may examine the AD docket on the internet at http://www.regulations.gov by searching for and locating Docket No. FAA-2018-0014; or in person at Docket Operations, U.S. Department of Transportation, M-30, West Building Ground Floor, Room W12-140, 1200 New Jersey Avenue SE, Washington, DC 20590.

For service information identified in this AD, contact Solo Kleinmotoren GmbH, Postfach 600152, 71050 Sindelfingen, Germany; telephone: +49 703 1301-0; fax: +49 703 1301-136; email: aircraft@solo-germany.com; internet: http://aircraft.solo-online.com. You may view this referenced service information at the FAA, Policy and Innovation Division, 901 Locust, Kansas City, Missouri 64106. For information on the availability of this material at the FAA, call (816) 329-4148. It is also available on the internet at http://www.regulations.gov by searching for Docket No. FAA-2018-0014.

FOR FURTHER INFORMATION CONTACT: Jim Rutherford, Aerospace Engineer, FAA, Small Airplane Standards Branch, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 by adding an AD that would apply to DG Flugzeugbau GmbH Models DG-500MB and DG-1000M airplanes. That NPRM was published in the Federal Register on January 16, 2018 (83 FR 2088), and proposed to supersede AD 2017-08-09, Amendment 39-18858 (82 FR 18694; April 21, 2017) (“AD 2017-08-09”). Since we issued AD 2017-08-09, the FAA has now type certificated the DG Flugzeugbau GmbH Model DG-1000M glider and that glider model is equipped with a Solo 2625 02i engine.

The NPRM proposed to correct an unsafe condition for the specified products and was based on mandatory continuing airworthiness information (MCAI) originated by an aviation authority of another country. You may examine the MCAI on the internet at: https://www.regulations.gov/document?D=FAA-2018-0014-0002.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM for correcting the unsafe condition; and

• Do not add any additional burden upon the public than was already proposed in the NPRM.

Related Service Information Under 1 CFR Part 51

We reviewed Solo Kleinmotoren GmbH issued Technische Mitteilung Nr. (English translation: Service Bulletin No.) 4600-5, Ausgabe 2 (English translation: Issue 2), dated December 12, 2014, approved for incorporation by reference on May 26, 2017 (82 FR 18694; April 21, 2017). The service information describes procedures for changing the fuel injector mounts for the engine redundancy system and securing of the connection of the lower to the upper engine mount. This service information is reasonably available because the interested parties have access to it through their normal course of business or by the means identified in the ADDRESSES section of this AD.

Other Related Service Information

We also reviewed Solo Kleinmotoren GmbH Technische Mitteilung Nr. (English translation: Service Bulletin No.) 4600-3, Ausgabe 3 (English translation: Issue 3), dated December 18, 2014, and the earlier versions. The service information describes procedures for modifying the engine Solo 2625 02 from the version with carburetors to the version with electronic engine management for fuel injection and ingnition.

Costs of Compliance

We estimate that this AD will affect 6 products of U.S. registry. We also estimate that it would take about 1 work-hour per product to comply with the basic requirements of this AD. The average labor rate is $85 per work-hour. Required parts would cost about $67 per product.

Based on these figures, we estimate the cost of this AD on U.S. operators to be $912, or $152 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, and domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the internet at http://www.regulations.gov by searching for and locating Docket No. FAA-2018-0014; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-18858 (82 FR 18694; April 21, 2017) and adding the following new AD:

2018-07-22 DG Flugzeugbau GmbH: Amendment 39-19253; Docket No. FAA-2018-0014; Product Identifier 2017-CE-044-AD.

(a) Effective Date

This airworthiness directive (AD) becomes effective May 25, 2018.

(b) Affected ADs

This AD replaces AD 2017-08-09, Amendment 39-18858 (82 FR 18694; April 21, 2017) (“AD 2017-08-09”).

(c) Applicability

This AD applies to DG Flugzeugbau GmbH DG-500MB and DG-1000M gliders, all serial numbers, certificated in any category, that are:

(1) Equipped with a Solo 2625 02 engine modified with a fuel injection system following the instructions of Solo Kleinmotoren GmbH Technische Mitteilung Nr. (English translation: Service Bulletin No.) 4600-3 and identified as Solo 2625 02i; or

(2) equipped with a Solo 2625 02i engine at manufacture.

(d) Subject

Air Transport Association of America (ATA) Code 72: Engine.

(e) Reason

This AD results from mandatory continuing airworthiness information (MCAI) originated by an aviation authority of another country to identify and address an unsafe condition on an aviation product. The MCAI describes the unsafe condition as the potential of an in-flight shut-down and engine fire resulting in loss of control due to failure of the connecting stud for the two fuel injector mounts of the engine redundancy system on gliders equipped with a Solo 2625 02i engine. We are issuing this AD to prevent such failure that could lead to the potential of an in-flight shut-down and engine fire and result in loss of control.

(f) Actions and Compliance

Unless already done, do the following actions in paragraphs (f)(1) through (3) of this AD following Solo Kleinmotoren GmbH Technische Mitteilung Nr. (English translation: Service Bulletin No.), 4600-5, Ausgabe 2 (English translation: Issue 2), dated December 12, 2014.

(1) For Model DG-500MB gliders: Within the next 60 days after May 26, 2017 (the effective date of AD 2017-08-09), modify the engine redundancy system.

(2) For Model DG-1000M gliders: Within the next 60 days after May 25, 2018 (the effective date of this AD), modify the engine redundancy system.

(3) For all gliders: The Note in Solo Kleinmotoren GmbH Technische Mitteilung (English translation: Service Bulletin), Nr. 4600-5, Ausgabe 2 (English translation: Issue 2), dated December 12, 2014, stating “the actions have to be accomplished by a certified maintenance organization and must be released by certifying staff,” is not applicable to this AD.

Note 1 to paragraph (f) of this AD: This service information contains German to English translation. The EASA used the English translation in referencing the document. For enforceability purposes, we will refer to the Solo Kleinmotoren service information as it appears on the document.

(g) Credit for Actions Accomplished in Accordance With Previous Service Information

This AD allows credit for modification of the engine redundancy system as required in paragraph (f)(1) of this AD if done before May 26, 2017 (the effective date of AD 2017-08-09) and allows credit for modification of the engine redundancy system as required in paragraph (f)(2) of this AD if done before May 25, 2018 (the effective date of this AD) following Solo Kleinmotoren GmbH Technische Mitteilung (English translation: Service Bulletin), Nr. 4600-5, Ausgabe 1 (English translation: Issue 1), dated November 24, 2014.

(h) Other FAA AD Provisions

The following provisions also apply to this AD:

(1) Alternative Methods of Compliance (AMOCs): The Manager, Small Airplane Standards Branch, FAA, has the authority to approve AMOCs for this AD, if requested using the procedures found in 14 CFR 39.19. Send information to ATTN: Jim Rutherford, Aerospace Engineer, FAA, Small Airplane Standards Branch, 901 Locust, Room 301, Kansas City, Missouri 64106; telephone: (816) 329-4165; fax: (816) 329- 4090; email: jim.rutherford@faa.gov. Before using any approved AMOC on any glider to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch, FAA; or the European Aviation Safety Agency (EASA).

(i) Related Information

Refer to MCAI European Aviation Safety Agency (EASA) AD No.: 2014-0269, dated December 11, 2014, for related information. You may examine the MCAI on the internet at: https://www.regulations.gov/document?D=FAA-2018-0014-0002. You may also refer to Solo Kleinmotoren GmbH Technische Mitteilung Nr. (English translation: Service Bulletin No.) 4600-3, Ausgabe 3 (English translation: Issue 3), dated December 18, 2014, and the earlier versions for information related to this AD. You may use the contact information found in paragraph (j)(4) of this AD to obtain copies of the information.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on May 26, 2017 (82 FR 18694; April 21, 2017).

(i) Solo Kleinmotoren GmbH Technische Mitteilung (English translation: Service Bulletin), Nr. 4600-5, Ausgabe 2 (English translation: Issue 2), dated December 12, 2014.

(ii) Reserved.

(4) For service information related to this AD, contact Solo Kleinmotoren GmbH, Postfach 600152, 71050 Sindelfingen, Germany; telephone: +49 703 1301-0; fax: +49 703 1301-136; email: aircraft@solo-germany.com; internet: http://aircraft.solo-online.com.

(5) You may view this service information at FAA, Policy and Innovation Division, 901 Locust, Kansas City, Missouri 64106. For information on the availability of this material at the FAA, call 816-329-4148. In addition, you can access this service information on the internet at http://www.regulations.gov by searching for and locating Docket No. FAA-2018-0014.

(6) You may view this service information that is incorporated by reference at the National Archives and Records Administration (NARA). For information on the availability of this material at NARA, call 202-741-6030, or go to: http://www.archives.gov/federal-register/cfr/ibr-locations.html.

Issued in Kansas City, Missouri, on April 11, 2018.
Pat Mullen,
Acting Deputy Director, Policy & Innovation Division, Aircraft Certification Service.

[FR Doc. 2018-07970 Filed 4-19-18; 8:45 am]

BILLING CODE 4910-13-P